Title 3—

The President

Proclamation 8163 of July 24, 2007

Anniversary of the Americans With Disabilities Act, 2007

By the President of the United States of America

A Proclamation

On the anniversary of the Americans with Disabilities Act (ADA), we celebrate our progress towards an America where individuals with disabilities are recognized for their talents and contributions to our society. We also underscore our commitment to extend the full liberties and freedoms of our great country to all Americans.

Seventeen years ago, President George H. W. Bush signed the ADA into law. This legislation became one of the most successful and compassionate reforms in our Nation's history, helping to ensure that individuals with disabilities are better able to develop meaningful skills, engage in productive work, and participate fully in the life of our Nation.

My Administration continues our work to build on this landmark legislation. In 2001, I announced the New Freedom Initiative to promote the full participation of people with disabilities in all areas of society by improving educational and employment opportunities, increasing access to assistive technologies, expanding transportation options, and promoting homeownership and integration into daily community life. The New Freedom Initiative and the ADA provide children with disabilities the tools they need to succeed in schools and communities. Working men and women living with disabilities contribute to our strong economy, and the “Ticket to Work” program and services at One-Stop Career Centers help expand employment opportunities. The DisabilityInfo.gov website connects individuals with disabilities and their families to vital information that helps more Americans share in the promises of our Nation.

NOW, THEREFORE, I, GEORGE W. BUSH, President of the United States of America, by virtue of the authority vested in me by the Constitution and laws of the United States, do hereby proclaim July 26, 2007, as a day in celebration of the 17th Anniversary of the Americans with Disabilities Act. I call on all Americans to celebrate the vital contributions of individuals with disabilities as we work towards fulfilling the promise of the ADA to give all our citizens the opportunity to live with dignity, work productively, and achieve their dreams.

IN WITNESS WHEREOF, I have hereunto set my hand this twenty-fourth day of July, in the year of our Lord two thousand seven, and of the Independence of the United States of America the two hundred and thirty-second.

[FR Doc. 07-3709

Filed 7-26-07; 9:33 am]

Billing code 3195-01-P